DEPARTMENT OF TRANSPORTATION

Federal Aviation Administration

14 CFR Part 39

[Docket No. FAA-2009-0788; Directorate Identifier 2009-NM-193-AD]

RIN 2120-AA64

Airworthiness Directives; Boeing Model 737-300, -400, and -500 Series Airplanes

AGENCY: Federal Aviation Administration (FAA), DOT.

ACTION: Notice of proposed rulemaking (NPRM).

SUMMARY: We propose to adopt a new airworthiness directive (AD) for certain Boeing Model 737-300, -400, and -500 series airplanes. This proposed AD would require repetitive external non-destructive inspections to detect cracks in the fuselage skin along the chem-mill step at stringers S-1 and S-2 right, between station (STA) 827 and STA 847, and repair if necessary. This proposed AD results from a report of a hole in the fuselage skin common to stringer S-1 and S-2 left, between STA 827 and STA 847 on an airplane that diverted to an alternate airport due to cabin depressurization. We are proposing this AD to detect and correct fatigue cracking of the fuselage skin panels at the chem-milled steps, which could result in sudden fracture and failure of the fuselage skin panels, and consequent rapid decompression of the airplane.

DATES: We must receive comments on this proposed AD by October 30, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Wayne Lockett, Aerospace Engineer, Airframe Branch, ANM-120S, FAA, Seattle Aircraft Certification Office, 1601 Lind Avenue, SW., Renton, Washington 98057-3356; telephone (425) 917-6447; fax (425) 917-6590.

SUPPLEMENTARY INFORMATION:

Comments Invited

We invite you to send any written relevant data, views, or arguments about this proposed AD. Send your comments to an address listed under the ADDRESSES section. Include “Docket No. FAA-2009-0788; Directorate Identifier 2009-NM-193-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received one report from an operator of a hole in the fuselage skin common to stringer S-1 and S-2 left, between station (STA) 827 and STA 847. The crack started along the chem-mill edge along stringer S-1. The airplane skin in the area had 20-inch tear strap bays, and a structural full pad up doubler provision for an emergency locator transmitter (ELT) antenna at this location. The airplane diverted to an alternate airport due to cabin depressurization and subsequent deployment of the oxygen masks. The airplane had accumulated 42,569 total flight cycles. The cause of the fatigue cracking is under investigation. Airplanes with 10-inch tear strap bays are also susceptible to cracks at this location. This condition, if not corrected, could result in sudden fracture and failure of the fuselage skin panels, and consequent rapid decompression of the airplane.

Relevant Service Information

We have reviewed Boeing Alert Service Bulletin 737-53A1301, dated September 3, 2009. The service bulletin describes procedures for repetitive external non-destructive inspections (NDI) to detect cracks in the fuselage skin along the chem-mill step at stringers S-1 and S-2 right, between STA 827 and STA 847, and contacting Boeing for repair instructions. The NDI inspections that can be used are medium frequency eddy current, magneto optical imaging, or c-scan. The service bulletin specifies that it is not necessary to inspect the chem-mill steps under an existing repair doubler provided all of the following apply:

• The repair was installed after the release date of the service bulletin;

• The repair was approved by the FAA or by a Boeing Company Authorized Representative who was authorized by the FAA to make such findings; and

• The repair extends a minimum of three rows of fasteners on each side of the chem-mill line in the circumferential direction.

FAA's Determination and Requirements of This Proposed AD

We are proposing this AD because we evaluated all relevant information and determined the unsafe condition described previously is likely to exist or develop in other products of the same type design. This proposed AD would require accomplishing the actions specified in the service information described previously, except as discussed under “Differences Between the Proposed AD and the Service Bulletin.”

Operators should note that paragraph (i) of this AD specifies certain conditions for terminating the repetitive inspections required by this AD for a repaired area only. One of those conditions is that the external repair doubler be installed after September 3, 2009. This is the date Boeing Service Bulletin 737-53A1301 became available to operators to address the identified unsafe condition. In any case, an initial inspection, as required by paragraph (g) of this AD, must still be accomplished.

Differences Between the Proposed AD and the Service Bulletin

Boeing Alert Service Bulletin 737-53A1301, dated September 3, 2009, specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Interim Action

We consider this proposed AD interim action. If final action is later identified, we might consider further rulemaking then.

Costs of Compliance

We estimate that this proposed AD would affect 135 airplanes of U.S. registry. The following table provides the estimated costs for U.S. operators to comply with this proposed AD.

Table—Estimated Costs
Action | Work hours | Average labor rate per hour | Cost per product | Number of U.S.-registered airplanes | Fleet cost
Inspection | 2 | $80 | $160, per inspection cycle | 135 | $21,600, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2009-0788; Directorate Identifier 2009-NM-193-AD.

Comments Due Date

(a) We must receive comments by October 30, 2009.

Affected ADs

(b) None.

Applicability

(c) This AD applies to Boeing Model 737-300, -400, and -500 series airplanes, certificated in any category; as identified in Boeing Alert Service Bulletin 737-53A1301, dated September 3, 2009.

Subject

(d) Air Transport Association (ATA) of America Code 53: Fuselage.

Unsafe Condition

(e) This AD results from a report of a hole in the fuselage skin common to stringer S-1 and S-2 left, between STA 827 and STA 847 on an airplane that diverted to an alternate airport due to cabin depressurization and subsequent deployment of the oxygen masks. We are issuing this AD to detect and correct fatigue cracking of the fuselage skin panels at the chem-milled steps, which could result in sudden fracture and failure of the fuselage skin panels, and consequent rapid decompression of the airplane.

Compliance

(f) You are responsible for having the actions required by this AD performed within the compliance times specified, unless the actions have already been done.

Initial and Repetitive Inspections

(g) Before the accumulation of 35,000 total flight cycles, or within 500 flight cycles after the effective date of this AD, whichever occurs later: Except as provided by paragraph (i) of this AD, do an external non-destructive inspection (NDI) to detect cracks in the fuselage skin along the chem-mill steps at stringers S-1 and S-2 right, between STA 827 and STA 847, in accordance with the Accomplishment Instructions of Boeing Alert Service Bulletin 737-53A1301, dated September 3, 2009. If no cracking is found, repeat the inspection thereafter at intervals not to exceed 500 flight cycles, except as provided by paragraph (i) of this AD.

Repair

(h) If any crack is found during any inspection required by this AD, and Boeing Alert Service Bulletin 737-53A1301, dated September 3, 2009, specifies to contact Boeing for repair instructions: Before further flight, repair the crack using a method approved in accordance with the procedures specified in paragraph (j) of this AD.

Optional Terminating Action for Repetitive Inspections

(i) Installing an external repair doubler along the chem-milled steps at stringers S-1 and S-2 right, between STA 827 and STA 847, constitutes terminating action for the repetitive inspections required by paragraph (g) of this AD for the repaired area only, provided all of the conditions specified in paragraphs (i)(1), (i)(2), and (i)(3) of this AD are met. The initial inspection required by paragraph (g) of this AD must be accomplished.

(1) The repair is installed after September 3, 2009;

(2) The repair was approved by the FAA or by a Boeing Company Authorized Representative who was authorized by the FAA to make such findings; and

(3) The repair extends a minimum of three rows of fasteners on each side of the chem-mill line in the circumferential direction.

Alternative Methods of Compliance (AMOCs)

(j)(1) The Manager, Seattle Aircraft Certification Office (ACO), FAA, has the authority to approve AMOCs for this AD, if requested using the procedures found in 14 CFR 39.19. Send information to ATTN: Wayne Lockett, Aerospace Engineer, Airframe Branch, ANM-120S, FAA, Seattle Aircraft Certification Office, 1601 Lind Avenue, SW., Renton, Washington 98057-3356; telephone (425) 917-6447; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane and the approval must specifically refer to this AD.

Issued in Renton, Washington, on September 4, 2009.
Stephen P. Boyd,
Acting Manager, Transport Airplane Directorate, Aircraft Certification Service.

[FR Doc. E9-22081 Filed 9-14-09; 8:45 am]

BILLING CODE 4910-13-P